DEPARTMENT OF AGRICULTURE

Forest Service

Chequamegon-Nicolet National Forest, WI; Twin Ghost Project

AGENCY: Forest Service, USDA.

ACTION: Notice of intent to prepare an environmental impact statement.

SUMMARY: The Great Divide Ranger District intends to prepare an Environmental Impact Statement (EIS) to disclose the environmental consequences of managing vegetation and the transportation system within the Twin Ghost Project area. The approximate legal description for the area is as follows: Township 42 North Ranges 4 and 5 West, and Township 43 North Ranges 4, 5, and 6 West. The project area encompasses approximately 67,085 acres in the west central portion of the Great Divide Ranger District, within Ashland, Bayfield, and Sawyer counties in Wisconsin. Excluding private in-holdings and lakes, there are about 53,427 acres of federal land within the project area, of which about 12,000 acres are proposed for vegetation management activities. See the SUPPLEMENTARY INFORMATION section for details regarding the purpose and need and proposed action.

DATES: Comments concerning the scope of the analysis should be received by February 12th, 2009 to receive timely consideration. The draft environmental impact statement is expected in May 2009 and the final environmental impact statement is expected in October 2009.

ADDRESSES: Send written comments to District Ranger Constance Chaney, Chequamegon-Nicolet National Forest, Great Divide Ranger District, P.O. Box 896, 10650 Nyman Avenue, Hayward, WI 54843. Comments may also be sent via facsimile to 715-634-3769.

FOR FURTHER INFORMATION CONTACT: Debra Proctor, Project Leader; Great Divide Ranger District, P.O. Box 896, 10650 Nyman Avenue, Hayward, WI 54843, 715-634-4821.

SUPPLEMENTARY INFORMATION:

Purpose and Need for Action

The vegetation proposal is to use timber harvest as a means to achieve forest health, silvicultural, and wildlife habitat improvement goals set forth in the Chequamegon-Nicolet National Forest 2004 Land and Resource Management Plan. The transportation system proposal is based on a risk/value assessment that was conducted with a goal to provide ample public and administrative motorized access while preventing undesirable natural resource impacts. The overall goal is to balance the needs of the public with the protection of the natural resources we all value.

Many of the stands within the project area are experiencing individual tree mortality and decreased growth rates due to their age, drought stress, insect and disease outbreaks, overstocking, and other factors. Many of the stands of short-lived forest types (aspen, balsam fir, paper birch, and jack pine) are beyond rotation age. These stands will experience increasing losses to decay and breakage, and be subject to greater tree mortality, if they are not treated soon. Wildlife species that are dependent upon early successional species such as aspen for food and cover benefit from the maintenance of aspen on the landscape that has a well-balanced age class distribution. Young aspen is needed for foraging, breeding, and protective nesting and brood cover. There are currently very few stands younger than 20 years. Many of the long-lived stands (oak, red pine, white pine, and northern hardwoods) are too crowded resulting in a decline of individual tree growth and greater susceptibility to insects and disease. Other needs that have been identified include: Increasing the amount of habitat for spruce grouse, reducing ladder fuels in Wildland Urban Interface areas, providing forest commodities, and providing a safe, efficient, and effective transportation system.

Proposed Action

The following proposed actions have been identified to address the needs listed above: Thin 1,425 acres of red oak, 3,008 acres of northern hardwood, 536 acres of red pine plantations, 218 acres of white pine plantations, 30 acres of aspen, and 34 acres of balsam fir; conduct a selection harvest in 1,973 acres of northern hardwoods; shelterwood harvest 326 acres of oak, 1,106 acres of paper birch, and 17 acres of balsam fir; clearcut and regenerate 1,847 acres of aspen, 491 acres of jack pine, and 169 acres of red pine; underplant up to 313 acres of white pine and 157 acres of black spruce or jack pine; plant 169 acres of red pine and 162 acres of jack pine; prescribe burn up to 1,298 acres of oak, paper birch, or jack pine sites for regeneration; mechanically scarify up to 1,780 acres of stands for regeneration; remove balsam fir trees less than 3 inches in diameter in up to 3,000 acres of Wildland Urban Interface areas; maintain 187 miles of existing roads; add to the system and maintain as open 57 miles of unauthorized roads; add to the system and maintain as closed 37 miles of unauthorized roads; construct 14 miles of temporary roads that would be decommissioned after use for accessing stands that need treatment infrequently; reconstruct 2 miles of road; convert 5 miles of road to trail; close 11 miles of road year-round; seasonally close 6 miles of road; and decommission 83 miles of predominantly unauthorized roads.

Responsible Official

The responsible official for this project is District Ranger Constance Chaney, Chequamegon-Nicolet National Forest, Great Divide Ranger District, P.O. Box 896, 10650 Nyman Avenue, Hayward, WI 54843.

Scoping Process

The Chequamegon-Nicolet National Forest began the scoping process for this project in October 2008, when it was listed on the Chequamegon-Nicolet Schedule of Proposed Actions. In November 2008, individuals, organizations, and agencies on the District's mailing list and those owning property nearby the project area were sent information packages and project information was posted on the Forest's Web site. Since that time meetings have been held when requested by individuals, organizations, and other agencies; news releases published in newspapers of record; and information shared on Wisconsin Public Radio and other radio stations. An open house is planned to occur in early February and additional meetings and open houses will be provided if there is interest from the public. Project information is available on the Internet at http://www.fs.fed.us/r9/cnnf/. Click on “Project Proposals and Decisions”, then “Twin Ghost Project”.

Preliminary Issues

The following issues will be analyzed in the EIS: Effects of the proposed activities on forest sustainability, soil productivity, water and air quality, Regional Forester Sensitive Species (plants and wildlife), game and non-game wildlife and bird species, non-native invasive species, recreation and visuals.

Possible Alternatives

Two alternatives to the proposed action are being developed in response to public comments received. One alternative would consider different types and amounts of silvicultural treatments to achieve the vegetation related purpose and need objectives. The other would provide a higher level of motorized access opportunities.

Comment Requested

This notice of intent initiates the scoping process which guides the development of the environmental impact statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, it is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22, 36 CFR 220.5(b) and Forest Service Handbook 1909.15, Section 21)

Dated: January 16, 2009.
Jeanne M. Higgins,
Forest Supervisor.

[FR Doc. E9-1601 Filed 1-23-09; 8:45 am]

BILLING CODE 3410-11-P